Proclamation 7932 of September 16, 2005

Constitution Day and Citizenship Day, Constitution Week, 2005

By the President of the United States of America

A Proclamation

More than two centuries after our Founding Fathers gathered in 1787 in Philadelphia, our Nation continues to be guided by the Constitution they drafted.

The Constitution of the United States reflects our ideals and establishes a practical system of government. It provides for three separate branches—the legislative, the executive, and the judicial—with defined responsibilities and with checks and balances among the branches. Under our Constitution, both the Federal Government and the State governments advance the will of the people through the people's representatives. To protect the rights of our citizens and maintain the rule of law, Article III of the Constitution provides for a judiciary of independent judges who have life tenure.

These fundamental principles—separation of powers, federalism, and an independent judiciary—have endured, and they have been essential to our Nation's progress toward equal justice and liberty for all. On Constitution Day and Citizenship Day and during Constitution Week, we celebrate the genius of our Constitution and reaffirm our commitment to its stated purposes: “to form a more perfect Union, establish Justice, insure domestic Tranquility, provide for the common defence, promote the general Welfare, and secure the Blessings of Liberty to ourselves and our Posterity.”

In remembrance of the signing of the Constitution and in recognition of the Americans who strive to uphold the duties and responsibilities of citizenship, the Congress, by joint resolution of February 29, 1952 (36 U.S.C. 106, as amended), designated September 17 as “Constitution Day and Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2005, as Constitution Day and Citizenship Day, and September 17 through September 23, 2005, as Constitution Week. I encourage Federal, State, and local officials, as well as leaders of civic, social, and educational organizations, to conduct ceremonies and programs that celebrate our Constitution and reaffirm our rights and obligations as citizens of our great Nation.

IN WITNESS WHEREOF, I have hereunto set my hand this sixteenth day of September, in the year of our Lord two thousand five, and of the Independence of the United States of America the two hundred and thirtieth.

B

[FR Doc. 05-18976

Filed 9-20-05; 8:45 am]

Billing code 3195-01-P